Proclamation 10445 of September 9, 2022

Patriot Day and National Day of Service and Remembrance, 2022

By the President of the United States of America

A Proclamation

On September 11, 2001, ordinary Americans performed extraordinary acts of heroism. Firefighters and police officers rushed into crumbling buildings and raging fires to save others. EMTs, construction workers, colleagues, and strangers tended to the wounded. Passengers and crewmembers gave their lives to thwart another attack. And a generation of women and men answered the call of duty by joining our Armed Forces to defend our freedom and our democracy.

These patriots—people of undaunted courage, uncommon resolve, and unwavering perseverance—are forever ingrained in our national character. They are reminders that we are a great country because we are a good people. On this Patriot Day and National Day of Service and Remembrance, we pay tribute to the heroes and victims who lost their lives on September 11, and we recommit ourselves to the spirit of unity, patriotism, and service that carried our Nation through in the days that followed.

Before they were national heroes, the women and men we honor were already heroes to so many others. They were the mothers who tucked their kids into bed at night. They were the fathers who drove the neighborhood carpools to school. They were the daughters who made their parents proud and the sons who lifted up their friends. To the families around America whose pain is especially personal on this day: Our entire Nation, including Jill and I, holds you close in our hearts and sends you our love. I know from personal experience that memorials can bring everything back as painfully as if it happened today—the moment you got the phone call—no matter how many years go by.

On this day, let us honor the memory of the innocent victims we lost and carry on the legacy of the selfless heroes who served our Nation on September 11 and in its aftermath. Let us also recognize the members of our intelligence and counterterrorism communities who worked with dedication and determination to deliver justice to Ayman al-Zawahiri, the emir of al-Qaeda and a key planner of this and other cruel attacks against our people.

I invite all Americans to observe this day with service; you can find opportunities in your community by visiting americorps.gov/911-day. Unity is what makes us who we are as Americans—it is our greatest strength. When we come together on this day, and every day, we demonstrate that even in the darkness, America remains a bright beacon of light and hope for the world.

By a joint resolution approved December 18, 2001 (Public Law 107-89), the Congress has designated September 11 of each year as “Patriot Day,” and by Public Law 111-13, approved April 21, 2009, the Congress has requested the observance of September 11 as an annually recognized “National Day of Service and Remembrance.”

NOW, THEREFORE, I, JOSEPH R. BIDEN JR., President of the United States of America, do hereby proclaim September 11, 2022, as Patriot Day and National Day of Service and Remembrance. I call upon all departments, agencies, and instrumentalities of the United States to display the flag of the United States at half-staff on Patriot Day and National Day of Service and Remembrance in honor of the individuals who lost their lives on September 11, 2001. I invite the Governors of the United States and its Territories and interested organizations and individuals to join in this observance. I call upon the people of the United States to participate in community service in honor of those our Nation lost, to observe this day with appropriate ceremonies and activities, including remembrance services, and to observe a moment of silence beginning at 8:46 a.m. eastern daylight time to honor the innocent victims who perished as a result of the terrorist attacks on September 11, 2001.

IN WITNESS WHEREOF, I have hereunto set my hand this ninth day of September, in the year of our Lord two thousand twenty-two, and of the Independence of the United States of America the two hundred and forty-seventh.

[FR Doc. 2022-20006

Filed 9-13-22; 8:45 am]

Billing code 3395-F2-P